DEPARTMENT OF DEFENSE

Office of the Secretary

Defense Health Board; Notice of Federal Advisory Committee Meeting

AGENCY: Department of Defense (DoD).

ACTION: Notice of Federal Advisory Committee meeting.

SUMMARY: The Department of Defense is publishing this notice to announce that the following Federal Advisory Committee meeting of the Defense Health Board (DHB) will take place.

DATES:

Tuesday, November 1, 2016

9:00 a.m.-11:30 a.m. (Open Session)

11:30 a.m.-12:30 p.m. (Administrative Session)

12:30 p.m.-5:00 p.m. (Open Session)

ADDRESSES: Defense Health Headquarters (DHHQ), Pavilion Salons B-C, 7700 Arlington Blvd., Falls Church, Virginia 22042 (escort required; see guidance in SUPPLEMENTARY INFORMATION, “Public's Accessibility to the Meeting”).

FOR FURTHER INFORMATION CONTACT: The Acting Executive Director of the Defense Health Board is CAPT Juliann Althoff, 7700 Arlington Boulevard, Suite 5101, Falls Church, Virginia 22042, (703) 681-6653, Fax: (703) 681-9539, juliann.m.althoff.mil@mail.mil. For meeting information, please contact Ms. Kendal Brown, 7700 Arlington Boulevard, Suite 5101, Falls Church, Virginia 22042, kendal.l.brown2.ctr@mail.mil, (703) 681-6670, Fax: (703) 681-9539.

SUPPLEMENTARY INFORMATION: This meeting is being held under the provisions of the Federal Advisory Committee Act of 1972 (5 U.S.C., Appendix, as amended), the Government in the Sunshine Act of 1976 (5 U.S.C. 552b, as amended), and 41 CFR 102-3.150.

Additional information, including the agenda and electronic registration, is available at the DHB Web site, http://www.health.mil/About-MHS/Other-MHS-Organizations/Defense-Health-Board/Meetings.

Purpose of the Meeting

The purpose of the meeting is to provide progress updates on specific taskings before the DHB. In addition, the DHB will receive information briefings on current issues or lessons learned related to military medicine, health policy, health research, disease/injury prevention, health promotion, and health care delivery.

Agenda

Pursuant to 5 U.S.C. 552b and 41 CFR 102-3.140 through 102-3.165 and subject to availability of space, the Defense Health Board meeting is open to the public from 9:00 a.m. to 11:30 a.m. and 12:30 p.m. to 5:00 p.m. on November 1, 2016. The DHB anticipates receiving progress updates from the Health Care Delivery Subcommittee on the pediatric health care services tasking, Public Health Subcommittee on its review of improving Defense Health Program medical research processes, and a subset of the Board on the Deployment Health Centers review. In addition, the DHB anticipates receiving information briefings on Pediatric Care in the Military Health System; the DHB history and the vision for the DHB; a Defense Suicide Prevention Office update; and a DHB Scholars Presentation to honor the innovative research being conducted in the Military Health System and to celebrate the efforts of early career investigators. Any changes to the agenda can be found at the link provided in this SUPPLEMENTARY INFORMATION section.

Public's Accessibility to the Meeting

Pursuant to 5 U.S.C. 552b, and 41 CFR 102-3.140 through 102-3.165 and subject to availability of space, this meeting is open to the public. Seating is limited and is on a first-come basis. All members of the public who wish to attend the public meeting must contact Ms. Kendal Brown at the number listed in the section FOR FURTHER INFORMATION CONTACT no later than 12:00 p.m. on Tuesday, October 25, 2016 to register. Additional details will be provided to all registrants.

Special Accommodations

Individuals requiring special accommodations to access the public meeting should contact Ms. Kendal Brown at least five (5) business days prior to the meeting so that appropriate arrangements can be made.

Written Statements

Any member of the public wishing to provide comments to the DHB may do so in accordance with section 10(a)(3) of the Federal Advisory Committee Act, 41 CFR 102-3.105(j) and 102-3.140, and the procedures described in this notice.

Individuals desiring to provide comments to the DHB may do so by submitting a written statement to the DHB Designated Federal Officer (DFO) (see FOR FURTHER INFORMATION CONTACT). Written statements should not be longer than two type-written pages and address the following details: The issue, discussion, and a recommended course of action. Supporting documentation may also be included, as needed, to establish the appropriate historical context and to provide any necessary background information.

If the written statement is not received at least five (5) business days prior to the meeting, the DFO may choose to postpone consideration of the statement until the next open meeting.

The DFO will review all timely submissions with the DHB President and ensure they are provided to members of the DHB before the meeting that is subject to this notice. After reviewing the written comments, the President and the DFO may choose to invite the submitter to orally present their issue during an open portion of this meeting or at a future meeting. The DFO, in consultation with the DHB President, may allot time for members of the public to present their issues for review and discussion by the Defense Health Board.

Dated: October 5, 2016.
Aaron Siegel,
Alternate OSD Federal Register Liaison Officer, Department of Defense.

[FR Doc. 2016-24451 Filed 10-7-16; 8:45 am]

BILLING CODE 5001-06-P